DEPARTMENT OF STATE

[Public Notice 8426]

30-Day Notice of Proposed Information Collection: Application for A, G, or NATO Visa

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to September 20, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sydney Taylor, Visa Services, U.S. Department of State, 2401 E. Street NW., L-603, Washington, DC 20522, who may be reached at PRA_BurdenComments@state.gov.

SUPPLEMENTARY INFORMATION: • Title of Information Collection: Application for A, G, or NATO Visas

• OMB Control Number: 1405-0100

• Type of Request: Extension of a Currently Approved Collection

• Originating Office: CA/VO/L/R

• Form Number: DS-1648

• Respondents: All applicants for A, G or NATO visa reauthorizations, excluding A-3, G-5 or NATO applicants

• Estimated Number of Respondents: 30,000

• Estimated Number of Responses: 30,000

• Average Time per Response: 30 minutes

• Total Estimated Burden Time: 15,000 hours

• Frequency: Once per application

• Obligation to Respond: Required to Obtain Benefits

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State will use Form DS-1648 to elicit information from applicants for a renewal of A, G, or NATO visas, excluding A-3, G-5 and NATO-7 applicants. INA sections 101(a)(15)(A) and (G), and 22 CFR 41.25, describe the criteria for these nonimmigrant visa classifications,

Methodology

The DS-1648 will be submitted electronically to the Department via the internet. The applicant will be instructed to print a confirmation page containing a bar coded record locator, which will be scanned at the time of processing.

Dated: August 6, 2013.
Don Heflin,
Managing Director for Visa Services, Bureau of Consular Affairs, Department of State.

[FR Doc. 2013-20408 Filed 8-20-13; 8:45 am]

BILLING CODE 4710-06-P